DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “Current Population Survey (CPS) Disability Supplement.” A copy of the proposed information collection request can be obtained by contacting the individual listed below in the Addresses section of this notice.

DATES: Written comments must be submitted to the office listed in the ADDRESSES section of this notice on or before January 26, 2024.

ADDRESSES: Send comments to Erin Good, BLS Clearance Officer, Division of Management Systems, Bureau of Labor Statistics, Room G225, 2 Massachusetts Avenue NE, Washington, DC 20212. Written comments also may be transmitted by email to BLS_PRA_Public@bls.gov.

FOR FURTHER INFORMATION CONTACT: Erin Good, BLS Clearance Officer, at 202-691-7628 (this is not a toll free number). (See ADDRESSES section.)

SUPPLEMENTARY INFORMATION:

I. Background

The July 2024 CPS Disability Supplement will be conducted at the request of the Department of Labor's Chief Evaluation Office. The Disability Supplement will provide information on the labor force participation rates for people with disabilities and those experiencing work-limiting health conditions or difficulties; the health conditions or difficulties they face; barriers to employment; challenges that make it difficult to perform their jobs; and job-related accommodations.

Since the supplement was last collected in 2021, work patterns have changed, policies have changed, and assistive technologies have advanced. In the 2024 iteration of the Disability Supplement, a number of questions will be added and others will be dropped, and overall there is no additional burden on the respondents.

New questions are being added to identify individuals with health conditions or difficulties that limit their ability to work, to complement data collected by the six disability questions currently included in the basic CPS, which ask a series of yes or no questions about whether a person:

1. Is deaf or has serious difficulty hearing

2. Is blind or has serious difficulty seeing (even with the assistance of corrective lenses)

3. Has serious difficulty concentrating, remembering, or making decisions

4. Has serious difficulty walking or climbing stairs

5. Has difficulty dressing or bathing

6. Has difficulty doing errands alone

A number of questions are thus being added to the 2024 Supplement to identify individuals with a work-limiting health condition or difficulty and to classify or identify these conditions. Questions also will be asked to determine if work-limiting conditions or disabilities are temporary. The supplement will continue to include questions about barriers to employment and workplace accommodations. Questions about participation in specific assistance programs, the receipt of financial assistance, working from home, and others will be dropped to accommodate the new focus.

Because the Disability Supplement is part of the CPS, the same detailed demographic information collected in the CPS will be available about respondents to the supplement. Thus, comparisons will be possible across respondent characteristics, including sex, race, ethnicity, age, and educational attainment. It will also be possible to create estimates for those who are employed, unemployed, and not in the labor force. Because the CPS is a rich source of information on the employment status of the population, it will be possible to examine in detail the nature of various employment and unemployment situations. Additionally, questions about telework are now asked on the monthly CPS; they will enable analyses of how the incidence of telework and disability intersect.

II. Current Action

Office of Management and Budget clearance is being sought for a revision of the CPS Disability Supplement. These data are necessary to provide information about the labor market challenges facing persons with a disability and will contribute to improvements in policies and programs designed to assist these individuals.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: CPS Disability Supplement.

OMB Number: 1220-0186.

Type of Review: Revision.

Affected Public: Individuals or households.

Total Respondents: 50,000.

Frequency: Once.

Total Responses: 50,000.

Average Time per Response: 5 minutes.

Estimated Total Burden Hours: 4,167 hours.

Comments submitted in response to this notice will be summarized and/or included in the request for Office of Management and Budget approval of the information collection request; they also will become a matter of public record.

Signed at Washington, DC, on November 21, 2023.
Leslie A. Bennett,
Chief, Division of Management Systems.

[FR Doc. 2023-26089 Filed 11-24-23; 8:45 am]

BILLING CODE 4510-24-P